DEPARTMENT OF AGRICULTURE

Submission for OMB Review; Comment Request

March 23, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Information Collection Pursuant to the Cabin User Fee Fairness Act of 2000 (16 U.S.C. 6201-13).

OMB Control Number: 0596-NEW.

Summary of Collection: The Cabin User Fee Fairness Act (CUFFA) of 2000 (16 U.S.C. 6201-13) directs the Forest Service (FS) to promulgate regulations and adopt policies for assessing a base cabin user fee for recreation residence on National Forest System lands. Section 614 of CUFFA establishes a “transition period”, defines how long the transition period will last, and provides guidelines on how the annual cabin user fees should be assessed and adjusted during the transition period. Upon adoption of the final regulations and agency directives, recreation resident permit holders will have 2 years to request that the FS take one of the following actions to establish a new base cabin user fee: (1) Conduct a new appraisal pursuant to the final regulations and policies; (2) commission a peer review of an existing appraisal report; or (3) establish a new fee based on the market value of the typical lot identified in an existing appraisal report that was completed and approved after September 30, 1995.

Need and Use of the Information: The information request is necessary for the FS to collect the permit holder's request, agreement, and accompanying signatures. The information will also assist the FS in establishing an accurate base cabin user fee during the transition period prescribed in CUFFA. Failure to collect this information could prevent the FS from complying with the provision of CUFFA and deny holders the opportunity to exercise one of the three options provided under CUFFA.

Description of Respondents: Individuals or households.

Number of Respondents: 305.

Frequency of Responses: Reporting: Other (One Time Collection).

Total Burden Hours: 81.25.

Ruth Brown,
Departmental Information Collection Clearance Officer.

[FR Doc. E6-4449 Filed 3-27-06; 8:45 am]

BILLING CODE 3410-11-P